DEPARTMENT OF COMMERCE

National Oceanic and Atmospheric Administration

50 CFR Part 622

[Docket No. 100812345-2142-03]

RIN 0648-XC060

Snapper-Grouper Fishery of the South Atlantic; 2012 Commercial Accountability Measure and Closure for the South Atlantic Lesser Amberjack, Almaco Jack, and Banded Rudderfish Complex

AGENCY: National Marine Fisheries Service (NMFS), National Oceanic and Atmospheric Administration (NOAA), Commerce.

ACTION: Temporary rule; closure.

SUMMARY: NMFS implements accountability measures (AMs) for the commercial sector for the lesser amberjack, almaco jack, and banded rudderfish complex in the South Atlantic for the 2012 fishing year through this temporary rule. Commercial landings for the lesser amberjack, almaco jack, and banded rudderfish complex, as estimated by the Science Research Director (SRD), are projected to reach their combined commercial annual catch limit (ACL) on July 2, 2012. Therefore, NMFS closes the commercial sector for this complex on July 2, 2012, through the remainder of the fishing year in the exclusive economic zone (EEZ) of the South Atlantic. This closure is necessary to protect the lesser amberjack, almaco jack, and banded rudderfish resources.

DATES: This rule is effective 12:01 a.m., local time, July 2, 2012, until 12:01 a.m., local time, January 1, 2013.

ADDRESSES: Electronic copies of the Comprehensive Annual Catch Limit Amendment (Comprehensive ACL Amendment) to the Fishery Management Plans (FMPs) for the Snapper-Grouper Fishery of the South Atlantic Region (Snapper-Grouper FMP), the Golden Crab Fishery of the South Atlantic Region (Golden Crab FMP), the Dolphin and Wahoo Fishery off the Atlantic States (Dolphin and Wahoo FMP), and the Pelagic Sargassum Habitat of the South Atlantic Region (Sargassum FMP), which includes a final environmental impact statement, a regulatory flexibility analysis, and a regulatory impact review, may be obtained from the Southeast Regional Office Web site at http://sero.nmfs.noaa.gov/sf/pdfs/Comp%20ACL%20Am%20101411%20FINAL.pdf.

FOR FURTHER INFORMATION CONTACT: Catherine Bruger, telephone: 727-824-5305, fax: 727-824-5308, email: Catherine.Bruger@noaa.gov.

SUPPLEMENTARY INFORMATION: The snapper-grouper fishery of the South Atlantic, which includes the lesser amberjack, almaco jack, and banded rudderfish complex, is managed under the Snapper-Grouper FMP. The Snapper-Grouper FMP was prepared by the South Atlantic Fishery Management Council and is implemented under the authority of the Magnuson-Stevens Fishery Conservation and Management Act (Magnuson-Stevens Act) by regulations at 50 CFR part 622.

Background

The 2006 reauthorization of the Magnuson-Stevens Act implemented new requirements that established ACLs and AMs to end overfishing and prevent overfishing from occurring. AMs are management controls to prevent ACLs from being exceeded, and to correct or mitigate overages of the ACL if they occur.

In part, the final rule for the Comprehensive ACL Amendment specified ACLs for species in the Snapper-Grouper FMP that are not undergoing overfishing, including the lesser amberjack, almaco jack, and banded rudderfish complex, and AMs if these ACLs are reached or exceeded. Implementation of ACLs and AMs for these species is intended to prevent overfishing from occurring in the future, while maintaining catch levels consistent with achieving optimum yield for the resources (77 FR 15916, March 16, 2010).

The combined commercial ACL for the lesser amberjack, almaco jack, and banded rudderfish complex, implemented through the Comprehensive ACL Amendment, is 193,999 lb (87,996 kg), round weight. In accordance with regulations at 50 CFR 622.49(b)(12)(i)(A), if the combined complex ACL is reached or projected to be reached, the Assistant Administrator, NMFS (AA) will file notification with the Office of the Federal Register to close the commercial sector for this complex for the remainder of the fishing year. Analysis of landings data from the NMFS Southeast Fisheries Science Center indicate that the commercial sector for this complex is projected to reach the ACL on July 2, 2012. Therefore, this temporary rule implements an AM to close the commercial sector for the lesser amberjack, almaco jack, and banded rudderfish complex in the South Atlantic, effective 12:01 a.m., local time July 2, 2012.

During the closure, all sale or purchase of lesser amberjack, almaco jack, and banded rudderfish is prohibited, and harvest or possession of these species in or from the South Atlantic EEZ is limited to the bag and possession limit, as specified at 50 CFR 622.39(d)(1)(viii) and (d)(2). This bag and possession limit applies in the South Atlantic on board a vessel for which a valid Federal commercial permit for South Atlantic snapper-grouper has been issued, without regard to where such species were harvested, i.e., in state or Federal waters. The commercial sector for the lesser amberjack, almaco jack, and banded rudderfish complex will reopen on January 1, 2013, the beginning of the 2013 commercial fishing season.

Classification

The Regional Administrator, Southeast Region, NMFS, has determined this temporary rule is necessary for the conservation and management of the lesser amberjack, almaco jack, and banded rudderfish complex, a component of the South Atlantic snapper-grouper fishery, and is consistent with the Magnuson-Stevens Act and other applicable laws.

This action is taken under 50 CFR 622.49(b)(1)(ii) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the AMs established by the Comprehensive ACL Amendment and located at 50 CFR 622.49(b)(12)(i)(A) have already been subject to notice and comment and authorize the AA to file a notification with the Office of the Federal Register to close the commercial sector for this complex for the remainder of the fishing year, if commercial landings for lesser amberjack, almaco jack, and banded rudderfish, combined, as estimated by the SRD, reach or are projected to reach their combined commercial ACL. All that remains is to notify the public of the closure of this complex for the remainder of the 2012 fishing year. Additionally, there is a need to immediately implement the closure for this complex for the 2012 fishing year, to prevent further commercial harvest and prevent the ACL from being exceeded, which will protect the lesser amberjack, almaco jack, and banded rudderfish resources in the South Atlantic. Also, providing prior notice and opportunity for public comment on this action would be contrary to the public interest because many of those affected by the closure need as much time as possible to adjust business plans to account for the reduced commercial fishing season.

For the aforementioned reasons, the AA also finds good cause to waive the 30-day delay in the effectiveness of this action under 5 U.S.C. 553(d)(3).

Authority: 16 U.S.C. 1801 et seq.

Dated: June 15, 2012.
Carrie Selberg,
Acting Director, Office of Sustainable Fisheries, National Marine Fisheries Service.

[FR Doc. 2012-15052 Filed 6-15-12; 4:15 pm]

BILLING CODE 3510-22-P